DEPARTMENT OF ENERGY

Federal Energy Regulatory Commission

Combined Notice of Filings #1

Take notice that the Commission received the following electric corporate filings:

Docket Numbers: EC23-88-000.

Applicants: Mustang Hills, LLC.

Description: Application for Authorization Under Section 203 of the Federal Power Act of Mustang Hills, LLC.

Filed Date: 5/12/23.

Accession Number: 20230512-5190.

Comment Date: 5 p.m. ET 6/2/23.

Docket Numbers: EC23-89-000.

Applicants: Consolidated Water Power Company.

Description: Application for Authorization Under Section 203 of the Federal Power Act of Consolidated Water Power Company.

Filed Date: 5/15/23.

Accession Number: 20230515-5173.

Comment Date: 5 p.m. ET 6/5/23.

Take notice that the Commission received the following Complaints and Compliance filings in EL Dockets:

Docket Numbers: EL23-67-000.

Applicants: Invenergy Nelson LLC, Invenergy Nelson LLC v. PJM Interconnection, L.L.C.

Description: Complaint of Invenergy Nelson LLC v. PJM Interconnection, L.L.C.

Filed Date: 5/12/23.

Accession Number: 20230512-5179.

Comment Date: 5 p.m. ET 6/1/23.

Take notice that the Commission received the following electric rate filings:

Docket Numbers: ER20-2584-002.

Applicants: Transource Maryland, LLC, American Electric Power Service Corporation, PJM Interconnection, L.L.C.

Description: Compliance filing: American Electric Power Service Corporation submits tariff filing per 35: Transource MD Order No. 864 Compliance Filing, Att. H-30A ER20-2584 to be effective 1/27/2020.

Filed Date: 5/15/23.

Accession Number: 20230515-5047.

Comment Date: 5 p.m. ET 6/5/23.

Docket Numbers: ER23-1876-000.

Applicants: Public Service Company of Colorado.

Description: § 205(d) Rate Filing: 2023-05-12 TSGT Fox Run Bndry Meter Agrmt 743 0.0.0 to be effective 7/11/2023.

Filed Date: 5/12/23.

Accession Number: 20230512-5173.

Comment Date: 5 p.m. ET 6/2/23.

Docket Numbers: ER23-1877-000.

Applicants: PJM Interconnection, L.L.C.

Description: § 205(d) Rate Filing: Amendment to ISA, Service Agreement No. 6182; Queue No. AD2-163 to be effective 7/14/2023.

Filed Date: 5/15/23.

Accession Number: 20230515-5038.

Comment Date: 5 p.m. ET 6/5/23.

Docket Numbers: ER23-1878-000.

Applicants: PJM Interconnection, L.L.C.

Description: § 205(d) Rate Filing: Amendment to ISA, SA No. 5984; Queue No. AC1-174/AC1-175 (amend) to be effective 7/15/2023.

Filed Date: 5/15/23.

Accession Number: 20230515-5063.

Comment Date: 5 p.m. ET 6/5/23.

Docket Numbers: ER23-1879-000.

Applicants: NorthWestern Corporation.

Description: § 205(d) Rate Filing: SA 682 1st Rev—NITSA with Western Area Power Administration to be effective 7/1/2023.

Filed Date: 5/15/23.

Accession Number: 20230515-5082.

Comment Date: 5 p.m. ET 6/5/23.

Docket Numbers: ER23-1880-000.

Applicants: Sun Streams Expansion, LLC.

Description: § 205(d) Rate Filing: Assignment of Shared Facilities Common Ownership Interest to be effective 5/16/2023.

Filed Date: 5/15/23.

Accession Number: 20230515-5087.

Comment Date: 5 p.m. ET 6/5/23.

Docket Numbers: ER23-1881-000.

Applicants: Sun Streams Expansion, LLC.

Description: § 205(d) Rate Filing: LGIA Co-Tenancy Agreement to be effective 5/16/2023.

Filed Date: 5/15/23.

Accession Number: 20230515-5091.

Comment Date: 5 p.m. ET 6/5/23.

Docket Numbers: ER23-1882-000.

Applicants: PJM Interconnection, L.L.C.

Description: § 205(d) Rate Filing: Amendment to WMPA, Service Agreement No. 5835; Queue No. AF2-288 to be effective 7/14/2023.

Filed Date: 5/15/23.

Accession Number: 20230515-5096.

Comment Date: 5 p.m. ET 6/5/23.

Docket Numbers: ER23-1883-000.

Applicants: Sun Pond, LLC.

Description: Baseline eTariff Filing: Certificates of Concurrence for A&R SFA and Assignment Agreement to be effective 5/16/2023.

Filed Date: 5/15/23.

Accession Number: 20230515-5110.

Comment Date: 5 p.m. ET 6/5/23.

Docket Numbers: ER23-1884-000.

Applicants: Sun Pond, LLC.

Description: § 205(d) Rate Filing: Certificate of Concurrence for LGIA Co-Tenancy Agreement to be effective 5/16/2023.

Filed Date: 5/15/23.

Accession Number: 20230515-5113.

Comment Date: 5 p.m. ET 6/5/23.

Docket Numbers: ER23-1885-000.

Applicants: AEP Texas Inc.

Description: § 205(d) Rate Filing: AEPTX-Honeycomb Solar Generation Interconnection Agreement to be effective 5/1/2023.

Filed Date: 5/15/23.

Accession Number: 20230515-5142.

Comment Date: 5 p.m. ET 6/5/23.

Docket Numbers: ER23-1886-000.

Applicants: IP Oberon II, LLC.

Description: § 205(d) Rate Filing: Certificate of Concurrence to LGIA Co-Tenancy Agreement to be effective 6/5/2023.

Filed Date: 5/15/23.

Accession Number: 20230515-5147.

Comment Date: 5 p.m. ET 6/5/23.

Docket Numbers: ER23-1887-000.

Applicants: IP Oberon II, LLC.

Description: § 205(d) Rate Filing: Certificate of Concurrence to Shared Facilities Agreement to be effective 6/5/2023.

Filed Date: 5/15/23.

Accession Number: 20230515-5150.

Comment Date: 5 p.m. ET 6/5/23.

Docket Numbers: ER23-1888-000.

Applicants: AEP Texas Inc.

Description: § 205(d) Rate Filing: AEPTX-Brightside Solar 1st A&R Generation Interconnection Agreement to be effective 5/1/2023.

Filed Date: 5/15/23.

Accession Number: 20230515-5156.

Comment Date: 5 p.m. ET 6/5/23.

Docket Numbers: ER23-1889-000.

Applicants: Sweetland Wind Farm, LLC.

Description: Baseline eTariff Filing: Market-Based Rate Application to be effective 7/15/2023.

Filed Date: 5/15/23.

Accession Number: 20230515-5158.

Comment Date: 5 p.m. ET 6/5/23.

Docket Numbers: ER23-1890-000.

Applicants: PJM Interconnection, L.L.C.

Description: § 205(d) Rate Filing: Original NSA, SA No. 6903; Queue No. AB1-087 to be effective 5/16/2023.

Filed Date: 5/15/23.

Accession Number: 20230515-5185.

Comment Date: 5 p.m. ET 6/5/23.

Take notice that the Commission received the following electric reliability filings:

Docket Numbers:

RR23-1-000.

Applicants: North American Electric Reliability Corporation.

Description: Petition of the North American Electric Reliability Corporation for approval of revisions to the Texas Reliability Entity, Inc. Regional Reliability Standards Develop.m.ent Process.

Filed Date: 5/15/23.

Accession Number: 20230515-5202.

Comment Date: 5 p.m. ET 6/5/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 15, 2023.
Debbie-Anne A. Reese,
Deputy Secretary.

[FR Doc. 2023-10754 Filed 5-18-23; 8:45 am]

BILLING CODE 6717-01-P